DEPARTMENT OF ENERGY

Federal Energy Regulatory Commission

[Docket No. RP00-471-001]

Southwest Gas Storage Company; Notice of Compliance Filing

September 7, 2001.

Take notice that on August 29, 2001, Southwest Gas Storage Company (Southwest) tendered for filing as part of its FERC Gas Tariff, First Revised Volume No. 1, revised tariff sheets as listed on Appendix A attached to the filing.

Southwest states that the purpose of this filing is to comply with the Commission's Order on Order No. 637 Compliance Filing issued on July 30, 2001. Specifically, the proposed changes (1) clarify that replacement shippers may nominate at the first opportunity after the award of capacity, (2) implement a crediting mechanism to credit OFO penalty revenue to its shippers and (3) establish a mechanism to credit existing shippers with the value of gas retained upon termination of a storage contract.

Southwest states that copies of this filing are being served on all affected customers and applicable state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-23107 Filed 9-14-01; 8:45 am]

BILLING CODE 6717-01-P